DEPARTMENT OF HEALTH AND HUMAN SERVICES

Centers for Disease Control and Prevention

Meeting of the Community Preventive Services Task Force (Task Force)

AGENCY: Centers for Disease Control and Prevention (CDC), Department of Health and Human Services (HHS).

ACTION: Notice of meeting.

SUMMARY: The Centers for Disease Control and Prevention (CDC) within the Department of Health and Human Services announces the next meeting of the Community Preventive Services Task Force (Task Force) on June 14-15, 2017 in Atlanta, Georgia.

DATES: The meeting will be held on Wednesday, June 14, 2017 from 8:30 a.m. to 6:00 p.m. EDT and Thursday, June 15, 2017 from 8:30 a.m. to 1:00 p.m. EDT.

ADDRESSES: The Task Force Meeting will be held at the CDC Edward R. Roybal Campus, Centers for Disease Control and Prevention Headquarters (Building 19), 1600 Clifton Road NE., Atlanta, GA 30329. You should be aware that the meeting location is in a Federal government building; therefore, strict Federal security measures are applicable. For additional information, please see Roybal Campus Security Guidelines under SUPPLEMENTARY INFORMATION. Information regarding meeting logistics will be available on the Community Guide Web site (www.thecommunityguide.org) closer to the date of the meeting.

Meeting Accessability: This space-limited meeting is open to the public. All meeting attendees must register to ensure completion of required security procedures and access to the CDC's Global Communications Center.

Public Comment: A public comment period, limited to three minutes per person, will follow the Task Force's discussion of each systematic review. Individuals wishing to make public comments must indicate their desire to do so in advance by providing their name, organizational affiliation, and the topic to be addressed (if known) with their registration. Public comments will become part of the meeting summary. Public comment is not possible via Webcast.

U.S. citizens must register by June 7, 2017. To satisfy security requirements, Non U.S. citizens must register by May 29, 2017. Failure to register by the dates identified could result in the inability to attend the Task Force meeting.

Meeting Accessibility: This meeting is available to the public via Webcast. CDC will send the Webcast URL to registrants upon receipt of their registration. All meeting attendees must register to receive the webcast information. CDC will email webcast information from the CPSTF@cdc.gov mailbox.

FOR FURTHER INFORMATION/REGISTRATION, CONTACT: Onslow Smith, Center for Surveillance, Epidemiology and Laboratory Services, Centers for Disease Control and Prevention, 1600 Clifton Road NE., MS-E-69, Atlanta, GA 30329, phone: (404) 498-6778, email: CPSTF@cdc.gov.

SUPPLEMENTARY INFORMATION:

Background on the CPSTF: The Task Force is an independent, nonpartisan, nonfederal, and unpaid panel. Its members represent a broad range of research, practice, and policy expertise in prevention, wellness, health promotion, and public health, and are appointed by the CDC Director. The Task Force was convened in 1996 by the Department of Health and Human Services (HHS) to identify community preventive programs, services, and policies that increase healthy longevity, save lives and dollars, and improve Americans' quality of life. CDC is mandated to provide ongoing administrative, research, and technical support for the operations of the Task Force. During its meetings, the Task Force considers the findings of systematic reviews on existing research and practice-based evidence and issues recommendations. Task Force recommendations are not mandates for compliance or spending. Instead, they provide information about evidence-based options that decision makers and stakeholders can consider when they are determining what best meets the specific needs, preferences, available resources, and constraints of their jurisdictions and constituents. The Task Force's recommendations, along with the systematic reviews of the evidence on which they are based, are compiled in the Guide to Community Preventive Services (The Community Guide).

At the meetings, the Task Force considers systematic reviews and issues findings and recommendations based on the reviews. Task Force recommendations provide information about evidence-based options that decision makers and stakeholders can consider when they are determining what best meets the specific needs, preferences, available resources, and constraints of their jurisdictions and constituents.

Matters proposed for discussion*: Diabetes prevention: Diabetes Prevention and Control (Effectiveness of Mobile Phone Applications to Improve Glycemic Control (HbA1c) in the Self-management of Diabetes); Obesity Prevention and Control (Economics of School-based Interventions for Obesity Prevention Availability of Healthy Food and Beverage (AHFB) and Snack Food and Beverage (SFB)); Physical Activity (Effectiveness of Activity Monitors for Increasing Physical Activity in Adults with Overweight or Obesity); Nutrition (Telehealth Methods to Deliver Dietary Interventions in Adults with Chronic Disease); and Women's Health (Effectiveness of Interventions for the Primary Prevention of Intimate Partner Violence and Sexual Violence Among Youth). The agenda is subject to change without notice.

Roybal Campus Security Guidelines: The Edward R. Roybal Campus is the headquarters of the CDC and is located at 1600 Clifton Road NE., Atlanta, Georgia. The meeting is being held in a Federal government building; therefore, Federal security measures are applicable.

All meeting attendees must RSVP by the dates outlined under Meeting Accessability. In planning your arrival time, please take into account the need to park and clear security. All visitors must enter the Edward R. Roybal Campus through the front entrance on Clifton Road. Vehicles may be searched, and the guard force will then direct visitors to the designated parking area. Upon arrival at the facility, visitors must present government-issued photo identification (e.g., a valid federal identification badge, state driver's license, state non-driver's identification card, or passport). Non-United States citizens must complete the required security paperwork prior to the meeting date and must present a valid passport, visa, Permanent Resident Card, or other type of work authorization document upon arrival at the facility. All persons entering the building must pass through a metal detector. CDC Security personnel will issue a visitor's ID badge at the entrance to Building 19. Visitors may receive an escort to the meeting room. All items brought to HHS/CDC are subject to inspection.

Dated: May 2, 2017.
Sandra Cashman,
Executive Secretary, Centers for Disease Control and Prevention.

[FR Doc. 2017-09133 Filed 5-4-17; 8:45 am]

BILLING CODE 4163-18-P